DEPARTMENT OF ENERGY

Federal Energy Regulatory Commission

Combined Notice of Filings

Take notice that the Commission has received the following Natural Gas Pipeline Rate and Refund Report filings:

Filings Instituting Proceedings

Docket Number: PR17-54-000.

Applicants: B&W Pipeline, LLC.

Description: Tariff filing per 284.123(b),(e)/: Compliance Tariff Filing to be effective 7/17/2017; Filing Type: 990.

Filed Date: 7/17/17.

Accession Number: 201707175068.

Comments/Protests Due: 5 p.m. ET 8/7/17.

Docket Numbers: RP17-898-000.

Applicants: Blue Lake Gas Storage Company.

Description: Petition for Approval of Settlement Agreement of Blue Lakes Gas Storage Company.

Filed Date: 07/12/2017.

Accession Number: 20170712-5202.

Comment Date: 5:00 p.m. Eastern Time on Monday, July 24, 2017.

Docket Numbers: RP17-846-000.

Applicants: Cargill, Incorporated, Macquarie Energy LLC.

Description: Supplement to Temporary Waiver Request of Cargill, Incorporated, et al.

Filed Date: 07/18/2017.

Accession Number: 20170718-5120.

Comment Date: 5:00 p.m. Eastern Time on Tuesday, July 25, 2017.

Docket Numbers: RP17-903-000.

Applicants: Colorado Interstate Gas Company, L.L.C.

Description: Colorado Interstate Gas Company, L.L.C. submits tariff filing per 154.204: Non-Conforming Negotiated Rate Agreement (AESC #213006-TF1CIG) to be effective 9/1/2017.

Filed Date: 07/18/2017.

Accession Number: 20170718-5061.

Comment Date: 5:00 p.m. Eastern Time on Monday, July 31, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 19, 2017.
Kimberly D. Bose,
Secretary.

[FR Doc. 2017-15607 Filed 7-25-17; 8:45 am]

BILLING CODE 6717-01-P